DEPARTMENT OF JUSTICE

Notice of Lodging of Consent Decree Pursuant to the Comprehensive Environmental Response, Compensation, and Liability Act

In accordance with Departmental policy, 28 CFR 50.7, notice is hereby given that a proposed consent decree in United States v. Ryder System, Inc., Civil Action No. C06-5072RJB, was lodged on February 8, 2006, with the United States District Court for the Western District of Washington. The consent decree requires defendant Ryder System, Inc. to compensate natural resources trustees for natural resource damages in Commencement Bay, Washington, resulting from releases of hazardous substances. The trustees are the State of Washington, the Puyallup Tribe of Indians, the Muckleshoot Indian Tribe, the National Oceanic and Atmospheric Administration of the United States Department of Commerce, and the United States Department of the Interior. Under the consent decree, defendant will pay $25,838.61 for natural resource damages and assessment costs.

The Department of Justice will receive, for a period of thirty (30) days from the date of this publication, comments relating to the proposed consent decree. Comments should be addressed to the Assistant Attorney General for the Environment and Natural Resources Division, Department of Justice, Washington, DC 20530, and should refer to United States v. Ryder System, Inc., DOJ Ref. #90-11-2-1049/5.

The proposed consent decree may be examined at the office of the United States Attorney, 601 Union Street, Seattle, WA 98101. During the public comment period, the Consent Decree may be examined on the following Department of Justice Web site: http://www.usdoj.gov/enrd/open.html, and at the Consent Decree Library, PO Box 7611, U.S. Department of Justice, Washington, DC 20044-7611 or by faxing a request to Tonia Fleetwood, fax no. (202) 514-0097, phone confirmation number (202) 514-1547. In requesting a copy please refer to the referenced case and enclose a check in the amount of $7.75 (25 cents per page reproduction costs), payable to the U.S. Treasury.

Robert E. Maher, Jr.,
Ass't Chief, Environmental Enforcement Section, Environment and Natural Resources Division.

[FR Doc. 06-1698 Filed 2-23-06; 8:45 am]

BILLING CODE 4410-15-M